DEPARTMENT OF COMMERCE

International Trade Administration

[A-821-811]

Continuation of Suspended Antidumping Duty Investigation: Ammonium Nitrate from the Russian Federation

AGENCY: Import Administration, International Trade Administration, Department of Commerce.

SUMMARY: As a result of the determinations by the Department of Commerce (“the Department”) and the International Trade Commission (“ITC”) that termination of the suspended antidumping duty investigation on ammonium nitrate from the Russian Federation (“Russia”) would likely lead to continuation or recurrence of dumping and material injury to an industry in the United States, the Department is publishing this notice of continuation of this suspended investigation.

EFFECTIVE DATE: April 5, 2006.

FOR FURTHER INFORMATION CONTACT: Judith Wey Rudman or Aishe Allen, Import Administration, International Trade Administration, U.S. Department of Commerce, 14th Street and Constitution Avenue, NW., Washington, DC 20230; telephone: (202) 482-0192, or 482-0172, respectively.

SUPPLEMENTARY INFORMATION:

Background

On March 31 and April 1, 2005, respectively, the ITC instituted, and the Department initiated, a sunset review of the Agreement Suspending the Antidumping Duty Investigation of Solid Fertilizer Grade Ammonium Nitrate from the Russian Federation (“Suspension Agreement”), pursuant to section 751(c) of the Tariff Act of 1930, as amended (“the Act”). See ITC Investigation Nos. 731-TA-856 (Review), Ammonium Nitrate from Russia, 70 FR 16517 (March 31, 2005) and Initiation of Five-Year (Sunset) Reviews, 70 FR 16800 (April 1, 2005). As a result of its review, pursuant to sections 751(c) and 752 of the Act, the Department determined that termination of the suspended antidumping duty investigation on ammonium nitrate from Russia would likely lead to a continuation or recurrence of dumping and notified the ITC of the magnitude of the margin likely to prevail should the Suspension Agreement be terminated. See Final Results of Five-Year Sunset Review of Suspended Antidumping Duty Investigation on Ammonium Nitrate from the Russian Federation, 71 FR 11177 (March 6, 2006).

On March 30, 2006, pursuant to section 751(c) of the Act, the ITC determined that termination of the suspended investigation on ammonium nitrate from Russia would be likely to lead to continuation or recurrence of material injury to an industry in the United States within a reasonably foreseeable time. See Ammonium Nitrate from Russia, 71 FR 16177 (March 30, 2006) and USITC Publication 3844 (March 2006), titled Ammonium Nitrate From Russia (Investigation No. 731-TA-856 (Review)). Therefore, pursuant to Section 351.218(f)(4) of the Department's regulations, the Department is publishing this notice of the continuation of the suspended investigation on ammonium nitrate from Russia.

Scope

The products covered by the sunset review of the suspended antidumping duty investigation on ammonium nitrate from Russia include solid, fertilizer grade ammonium nitrate products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this review is classified in the Harmonized Tariff Schedule of the United States (“HTSUS”) at subheading 3102.30.00.00. Although the HTSUS subheadings are provided for convenience and customs purposes, the written description of the merchandise within the scope of this sunset review is dispositive.

Determination

As a result of the determinations by the Department and the ITC that termination of the suspended investigation would likely lead to continuation or recurrence of dumping and material injury to an industry in the United States, pursuant to section 751(d)(2) of the Act, the Department hereby orders the continuation of the Suspension Agreement. The effective date of continuation of this suspended investigation will be the date of publication in the Federal Register of this Notice of Continuation. Pursuant to sections 751(c)(2) and 751(c)(6) of the Act, the Department intends to initiate the next five-year sunset review of this Suspension Agreement not later than March 2011.

This five-year (sunset) review and notice are in accordance with section 751(c) of the Act and published pursuant to section 777(i)(1) of the Act.

Dated: March 30, 2006.
David M. Spooner,
Assistant Secretary for Import Administration.

[FR Doc. E6-4937 Filed 4-4-06; 8:45 am]

BILLING CODE 3510-DS-S